DEPARTMENT OF COMMERCE

Economic Development Administration

13 CFR Chapter III

[Docket No.: 110119042-1174-02]

RIN 0610-XA04

Request for Comments: Review and Improvement of EDA's Regulations

AGENCY: Economic Development Administration, Department of Commerce.

ACTION: Notice and request for comments; extending public comment deadline.

SUMMARY: On February 1, 2011, the Economic Development Administration (EDA) published a Federal Register notice requesting public input to improve the agency's regulations (76 FR 5501). Because of strong interest in the agency's efforts to streamline and update its regulations, EDA publishes this notice to extend the deadline for submitting regulatory comments.

DATES: Comments must be received no later than 5 p.m. Eastern Time on April 11, 2011.

ADDRESSES: Comments will continue to be accepted by the following methods:

• Federal eRulemaking Portal: http://www.regulations.gov. Follow the instructions for submitting comments.

• Agency Web Site: http://www.eda.gov/. EDA has created an online feature for submitting comments. Follow the instructions at http://www.eda.gov/.

• E-mail: regulations@eda.doc.gov. Include “Comments on EDA's regulations” and Docket No. 110119042-1041-01 in the subject line of the message.

• Fax: (202) 482-5671, Attention: Office of Chief Counsel. Please indicate “Comments on EDA's regulations” and Docket No. 110119042-1041-01 on the cover page.

• Mail: Economic Development Administration, Office of Chief Counsel, Suite D-100, U.S. Department of Commerce, 1401 Constitution Avenue, NW., Washington, DC 20230. Please indicate “Comments on EDA's regulations” and Docket No. 110119042-1041-01 on the envelope.

FOR FURTHER INFORMATION CONTACT: Jamie Lipsey, Attorney Advisor, U.S. Department of Commerce, Economic Development Administration, Office of Chief Counsel, 1401 Constitution Avenue, NW., Suite D-100, Washington, DC 20230; telephone: (202) 482-4687.

SUPPLEMENTARY INFORMATION: EDA's regulations, which are codified at 13 CFR chapter III, provide the framework through which the agency administers its economic development assistance programs. In a Federal Register notice published on February 1, 2011 (76 FR 5501), EDA requested public feedback on any obstacles created by EDA's current regulations and ways to improve them to help the agency better advance innovative economic development in the 21st century. Because of strong interest in this initiative and to ensure our stakeholders have ample time to comment, EDA is extending the deadline for the submission of comments from March 9, 2011, to April 11, 2011. Although EDA welcomes comments on all of its regulations, the agency requests particular input on those regulations that impact the creation and growth of Regional Innovation Clusters (RICs) and on the agency's property management regulations. Please see the notice and request for comments, 76 FR 5501 (February 1, 2011), and EDA's Web site at http://www.eda.gov/ for more information. As part of the Administration's commitment to open government, EDA is interested in broad public and stakeholder participation in this effort and strives to create a simplified regulatory system that balances the agency's fiduciary and transparency responsibilities with good, commonsense customer service to our stakeholders and the American people.

Comments should be submitted to EDA as described in the ADDRESSES section of this notice. EDA strongly encourages the use of the online feature on the agency's Web site to share comments and suggestions, which is easily accessible at http://www.eda.gov/ and offers participants an opportunity to view the comments of others. EDA will consider all comments submitted in response to this notice that are received by 5 p.m. Eastern Time on April 11, 2011, as referenced under DATES EDA will not accept public comments accompanied by a request that a part or all of the material be treated confidentially for any reason; EDA will not consider such comments and will return such comments and materials to the commenter. All public comments (including faxed or e-mailed comments) submitted in response to this notice must be in writing and will be a matter of public record. All comments submitted will be available for public inspection and copying at http://www.regulations.gov.

Dated: March 2, 2011.
Otto Barry Bird,
Chief Counsel.

[FR Doc. 2011-5128 Filed 3-7-11; 8:45 am]

BILLING CODE 3510-WH-P